DEPARTMENT OF HEALTH AND HUMAN SERVICES

Food and Drug Administration

21 CFR Part 173

[Docket No. 00F-1482]

Secondary Direct Food Additives Permitted in Food for Human Consumption; Correction

AGENCY: Food and Drug Administration, HHS.

ACTION: Final rule; correction.

SUMMARY: The Food and Drug Administration (FDA) is correcting a final rule that appeared in the Federal Register of June 26, 2001 (66 FR 33829). The document amended the food additive regulations to provide for the safe use of ozone in gaseous and aqueous phases as an antimicrobial agent on food, including meat and poultry. A reference to 9 CFR part 381, subpart P was inadvertently omitted. This document corrects that error.

DATES: The rule was effective on June 26, 2001.

FOR FURTHER INFORMATION CONTACT: Robert L. Martin, Center for Food Safety and Applied Nutrition (HFS-215), Food and Drug Administration, Washington, DC 20204-0001, 202-418-3074.

SUPPLEMENTARY INFORMATION: In the Federal Register of June 26, 2001 (66 FR 33829), FDA added a food additive regulation at § 173.368 (21 CFR 173.368) to provide for the safe use of ozone in gaseous and aqueous phases as an antimicrobial agent on food, including meat and poultry (unless precluded by standards of identity in 9 CFR part 319). A reference to 9 CFR part 381, subpart P was inadvertently omitted. Therefore, the agency is amending § 173.368(d) to correct this omission. After publication of the final rule, the agency received an objection within the 30-day comment period. The agency is currently evaluating that objection.

In FR Doc. 01-15963, appearing on pages 33829 to 33830 in the Federal Register of Wednesday, June 26, 2001, the following correction is made:

§ 173.368 [Corrected]

1. On page 33830, in the second column, under § 173.368 Ozone, in paragraph (d), in the fourth line, after “9 CFR part 319 ” add the phrase “or 9 CFR part 381, subpart P”.

Dated: December 18, 2001.
L. Robert Lake,
Director of Regulations and Policy, Center for Food Safety and Applied Nutrition.

[FR Doc. 02-44 Filed 1-2-02; 8:45 am]

BILLING CODE 4160-02-S